DEPARTMENT OF HOMELAND SECURITY

Coast Guard

33 CFR Part 100

[Docket No. USCG-2022-0537]

Special Local Regulations; Seattle Seafair Unlimited Hydroplane Race, Lake Washington, WA

AGENCY: Coast Guard, DHS.

ACTION: Notification of enforcement of regulation.

SUMMARY: The Coast Guard will enforce special local regulations for the Seattle Seafair Unlimited Hydroplane Race on Thursday August 4, 2022, from 10 a.m. to 4 p.m. and Friday and Saturday, August 5 and 6, 2022, from 8 a.m. to 5 p.m. to provide for the safety of life on navigable waterways during this event. Our regulation for marine events within the Thirteenth Coast Guard District identifies the regulated area for this event on Lake Washington, WA. During the enforcement periods, the operator of any vessel in the regulated area must comply with directions from the Patrol Commander or any Official Patrol displaying a Coast Guard ensign.

DATES: The regulations in 33 CFR 100.1301 will be enforced Thursday, August 4, 2022, from 10 a.m. to 4 p.m., and Friday and Saturday, August 5 and 6, 2022, from 8 a.m. to 5 p.m.

FOR FURTHER INFORMATION CONTACT: If you have questions about this notification of enforcement, call or email Lieutenant Peter J. McAndrew, Sector Puget Sound Waterways Management Division, Coast Guard; telephone 206-217-6051, email SectorPugetSound@uscg.mil.

SUPPLEMENTARY INFORMATION: The Coast Guard will enforce special local regulations in 33 CFR 100.1301 for the Seattle Seafair Unlimited Hydroplane Race on Thursday August 4, 2022, from 10 a.m. to 4 p.m., and Friday and Saturday, August 5 and 6, 2022, from 8 a.m. to 5 p.m. This action is being taken to provide for the safety of life on navigable waterways during this three-day event. Our regulation for marine events within the Thirteenth Coast Guard District, § 100.1301(b), specifies the location of the regulated area for the Seattle Seafair Unlimited Hydroplane Race which encompasses portions of Lake Washington. During the enforcement periods, if you are the operator of a vessel in the regulated area you must comply with directions from the Patrol Commander or any Official Patrol displaying a Coast Guard ensign.

The regulated area has been divided into two zones. The zones are separated by a line perpendicular from the I-90 Bridge to the northwest corner of the East log boom and a line extending from the southeast corner of the East log boom to the southeast corner of the hydroplane race course and then to the northerly tip of Ohlers Island in Andrews Bay. The western zone is designated Zone I, the eastern zone, Zone II. (Refer to NOAA Chart 18447).

The Coast Guard will maintain a patrol consisting of Coast Guard vessels, assisted by Coast Guard Auxiliary vessels, in Zone II. The Coast Guard patrol of this area is under the direction of the Coast Guard Patrol Commander (the “Patrol Commander”). The Patrol Commander is empowered to control the movement of vessels on the race course and in the adjoining waters during the periods this regulation is subject to enforcement. The Patrol Commander may be assisted by other federal, state and local law enforcement agencies.

Only vessels authorized by the Patrol Commander may be allowed to enter Zone I during the hours this regulation is subject to enforcement. Vessels in the vicinity of Zone I shall maneuver and anchor as directed by Coast Guard Officers or Petty Officers.

During the times stated, the Coast Guard will enforce § 100.1301(f) through (m) as follows:

(1) Swimming, wading, or otherwise entering the water in Zone I by any person is prohibited while hydroplane boats are on the race course. At other times in Zone I, any person entering the water from the shoreline shall remain west of the swim line, denoted by buoys, and any person entering the water from the log boom shall remain within 10 feet of the log boom.

(2) Any person swimming or otherwise entering the water in Zone II shall remain within 10 feet of a vessel.

(3) Rafting to a log boom will be limited to groups of three vessels.

(4) Up to six vessels may raft together in Zone II if none of the vessels are secured to a log boom.

(5) Only vessels authorized by the Patrol Commander, other law enforcement agencies or event sponsors shall be permitted to tow other watercraft or inflatable devices.

(6) Vessels proceeding in either Zone I or Zone II during the hours this regulation is subject to enforcement shall do so only at speeds, which will create minimum wake, seven miles per hour or less. This maximum speed may be reduced at the discretion of the Patrol Commander.

(7) Upon completion of the daily racing activities, all vessels leaving either Zone I or Zone II shall proceed at speeds of seven miles per hour or less. The maximum speed may be reduced at the discretion of the Patrol Commander.

(8) A succession of sharp, short signals by whistle or horn from vessels patrolling the areas under the direction of the Patrol Commander shall serve as signal to stop. Vessels signaled shall stop and shall comply with the orders of the patrol vessel; failure to do so may result in expulsion from the area, citation for failure to comply, or both.

The Captain of the Port may be assisted by other federal, state and local law enforcement agencies in enforcing this regulation.

If the Captain of the Port determines that the regulated area need not be enforced for the full duration stated in this notice, he may use a Broadcast Notice to Mariners to grant general permission to enter the regulated area.

In addition to this notification of enforcement in the Federal Register, the Coast Guard plans to provide notification of this enforcement period via the Local Notice to Mariners and marine information broadcasts.

Dated: July 7, 2022.
P.M. Hilbert,
Captain, U.S. Coast Guard, Captain of the Port, Puget Sound.

[FR Doc. 2022-14964 Filed 7-14-22; 8:45 am]

BILLING CODE 9110-04-P